DEPARTMENT OF TRANSPORTATION

Federal Transit Administration

Request for Transit Advisory Committee for Safety (TRACS) Nominations

AGENCY: Federal Transit Administration, DOT.

ACTION: Notice to solicit TRACS nominees.

SUMMARY: The Federal Transit Administration (FTA) is seeking nominations for individuals to serve as members for two-year terms on the Transit Advisory Committee for Safety (TRACS). TRACS provides information, advice, and recommendations to the U.S. Secretary of Transportation (Secretary) and FTA Administrator in response to tasks assigned to the committee. TRACS does not exercise program management responsibilities and makes no decisions directly affecting the programs on which it provides advice. The Secretary may accept or reject a recommendation made by TRACS and is not bound to pursue any recommendation from TRACS.

DATES: FTA is asking for all Nominations to be submitted by August 31, 2016.

FOR FURTHER INFORMATION CONTACT: Adrianne Malasky, Office of Transit Safety and Oversight, Federal Transit Administration, 1200 New Jersey Avenue SE., Washington, DC 20590-0001 (telephone: 202-366-5496; or email: Adrianne.Malasky@dot.gov).

SUPPLEMENTARY INFORMATION:

I. Background

On December 8, 2009, the TRACS was originally chartered by the Secretary for the purpose of providing a forum for the development, consideration, and communication of information from knowledgeable and independent perspectives regarding modes of public transit safety. The TRACS consists of members representing key constituencies affected by transit safety requirements, including transit rail and bus safety experts, research institutions, industry associations, labor unions, transit agencies, and State Safety Oversight Agencies. TRACS currently has 29 members, which is the maximum number of members.

Pursuant to the mandates at 49 U.S.C. 5329, the FTA is required to develop an implement a national public transportation safety program to improve the safety of all public transportation systems that receive Federal financial assistance under 49 U.S.C. chapter 53. Therefore, TRACS membership is configured to reflect a broad range of safety constituents representative of the public transportation industry and include key constituencies affected by safety requirements for transit rail and/or transit bus. Individuals representing labor unions, rail and bus transit agencies, paratransit service providers (both general public and Americans with Disabilities Act complementary service), State Safety Oversight Agencies, State Departments of Transportation, transit safety research organizations and the rail and bus transit safety industry are invited to apply for membership.

The TRACS meets twice a year, usually in Washington, DC, but may meet more frequently or via conference call as needed. Members serve at their own expense and receive no salary from the Federal Government. The FTA retains authority to review the participation of any TRACS member and to recommend changes at any time. TRACS meetings are open to all members of the public. Interested parties may view information about the committee at: https://www.transit.dot.gov/regulations-and-guidance/safety/transit-advisory-committee-safety-tracs.

II. Nominations

The FTA invites qualified individuals interested in serving on this committee to apply to FTA for appointment. FTA's Administrator will recommend nominees for appointment by the Secretary. Appointments are for two-year terms; however, the Secretary may reappoint a member to serve additional terms. Nominees should be knowledgeable of trends or issues related to rail transit and bus transit safety. Along with their experience in the bus transit or rail transit industry, nominees will also be evaluated on factors including leadership and organizational skills, region of the country represented, diversity characteristics, and the overall balance of industry representation.

Each nomination should include the nominee's name and organizational affiliation, a cover letter describing the nominee's qualifications and interest in serving on the committee, a curriculum vitae or resume of the nominee's qualifications, and contact information including the nominee's name, address, phone number, fax number, and email address. Self-nominations are acceptable. FTA prefers electronic submissions for all applications to TRACS@dot.gov. Applications will also be accepted via U.S. mail at the address identified in the FOR FURTHER INFORMATION CONTACT section of this notice.

In the near-term, the FTA expects to nominate up to twenty (20) representatives from the public transportation safety community for immediate TRACS membership. Interested persons must submit their nomination applications to FTA by August 31, 2016. The Secretary, in consultation with the FTA Administrator, will make the final selection decision.

Issued this 17 day of June, 2016, in Washington, DC.
Carolyn Flowers,
Acting Administrator.

[FR Doc. 2016-15110 Filed 6-24-16; 8:45 am]

BILLING CODE P